ENVIRONMENTAL PROTECTION AGENCY

[ER-FRL-9051-1]

Environmental Impact Statements; Notice of Availability

Responsible Agency: Office of Federal Activities, General Information 202-564-5632 or https://www.epa.gov/nepa.

Weekly receipt of Environmental Impact Statements (EIS)

Filed May 18, 2020, 10 a.m. EST Through May 22, 2020, 11:59 p.m. EST

Pursuant to 40 CFR 1506.9.

Section 309(a) of the Clean Air Act requires that EPA make public its comments on EISs issued by other Federal agencies. EPA's comment letters on EISs are available at: https://cdxnodengn.epa.gov/cdx-enepa-public/action/eis/search.

EIS No. 20200109, Final, USAF, OH, Wright-Patterson Air Force Base Housing Program, Review Period Ends: 06/29/2020, Contact: Michael Ackerman 210-925-2741.

EIS No. 20200110, Draft, USA, GA, Fort Benning Heavy Off-Road Mounted Maneuver Training Area, Comment Period Ends: 07/13/2020, Contact: Mr. John Brown 706-545-7549.

EIS No. 20200111, Draft, CHSRA, CA, Burbank to Los Angeles Project Section Draft Environmental Impact Report/Environmental Impact Statement, Comment Period Ends: 07/13/2020, Contact: Dan McKell 916-330-5668.

EIS No. 20200113, Final, DOT, TX, Dallas to Houston High-Speed Rail, Review Period Ends: 06/29/2020, Contact: Kevin Wright 202-493-0845.

Dated: May 26, 2020.
Cindy S. Barger,
Director, NEPA Compliance Division, Office of Federal Activities.

[FR Doc. 2020-11613 Filed 5-28-20; 8:45 am]

BILLING CODE 6560-50-P